DEPARTMENT OF ENERGY

Federal Energy Regulatory Commission

Combined Notice of Filings #2

Take notice that the Commission received the following electric rate filings:

Docket Numbers: ER10-2984-017.

Applicants: Merrill Lynch Commodities, Inc.

Description: Notice of Non-Material Change in Status of Merrill Lynch Commodities, Inc.

Filed Date: 6/26/14.

Accession Number: 20140626-5101.

Comments Due: 5 p.m. ET 7/17/14.

Docket Numbers: ER13-395-001.

Applicants: Safe Harbor Water Power Corporation.

Description: Safe Harbor Updated Market Power Analysis, Order No. 697-A Compl, Chg of Status to be effective 7/1/2014.

Filed Date: 6/26/14.

Accession Number: 20140626-5050.

Comments Due: 5 p.m. ET 8/25/14.

Docket Numbers: ER14-1608-000.

Applicants: Public Service Electric and Gas Company, PJM Interconnection, L.L.C.

Description: Public Service Electric and Gas Company submits tariff filing per 35: PSE&G submits compliance filing per 5/27/2014 Order in Docket No. ER14-1608 to be effective 5/28/2014.

Filed Date: 6/26/14.

Accession Number: 20140626-5102.

Comments Due: 5 p.m. ET 7/17/14.

Docket Numbers: ER14-1711-003.

Applicants: TC Ravenswood, LLC.

Description: Clarification of 6/24/14 amendment to restart 60 day clock effective 5/1/14 to be effective 5/1/2014.

Filed Date: 6/26/14.

Accession Number: 20140626-5038.

Comments Due: 5 p.m. ET 7/7/14.

Docket Numbers: ER14-2259-001; ER11-4026-003.

Applicants: Desert View Power LLC, Eel River Power LLC.

Description: Notice of Change in Status of the Greenleaf MBR Sellers.

Filed Date: 6/26/14.

Accession Number: 20140626-5097.

Comments Due: 5 p.m. ET 7/17/14.

Docket Numbers: ER14-2273-000.

Applicants: Midcontinent Independent System Operator, Inc.

Description: 2014-06-26 SA 2426 Montana Dakota-Thunder Spirit 2nd Amend GIA (G752) to be effective 6/27/2014.

Filed Date: 6/26/14.

Accession Number: 20140626-5074.

Comments Due: 5 p.m. ET 7/17/14.

Docket Numbers: ER14-2274-000.

Applicants: Aesir Power, LLC.

Description: Petition of Aesir Power LLC MBR Tariff Application to be effective 8/25/2014.

Filed Date: 6/26/14.

Accession Number: 20140626-5075.

Comments Due: 5 p.m. ET 7/17/14.

Docket Numbers: ER14-2275-000.

Applicants: Grays Ferry Cogeneration Partnership.

Description: Grays Ferry NE Triennial & 784 to be effective 6/27/2014.

Filed Date: 6/26/14.

Accession Number: 20140626-5084.

Comments Due: 5 p.m. ET 8/25/14.

Docket Numbers: ER14-2276-000.

Applicants: Midcontinent Independent System Operator, Inc.

Description: 2014-06-26 SA 2467 MDU-MDU Amended GIA (J200) to be effective 6/27/2014.

Filed Date: 6/26/14.

Accession Number: 20140626-5085.

Comments Due: 5 p.m. ET 7/17/14.

Docket Numbers: ER14-2277-000.

Applicants: Mojave Solar LLC.

Description: Mojave Solar LLC submits tariff filing per 35: Notice of Succession Revisions to MBR Tariff to be effective 6/27/2014.

Filed Date: 6/26/14.

Accession Number: 20140626-5103.

Comments Due: 5 p.m. ET 7/17/14.

Docket Numbers: ER14-2278-000.

Applicants: NorthWestern Corporation.

Description: NorthWestern Corporation submits tariff filing per 35.13(a)(2)(iii: Revised Rate Schedule 188—Colstrip 1 and 2 Transmission Agreement to be effective 9/1/2014.

Filed Date: 6/26/14.

Accession Number: 20140626-5131.

Comments Due: 5 p.m. ET 7/17/14.

Docket Numbers: ER14-2279-000.

Applicants: Spinning Spur Wind LLC.

Description: Spinning Spur Wind LLC submits tariff filing per 35.15: Notice of Cancellation of Spinning Spur Wind Rate Schedules FERC Nos. 1 and 2 to be effective 6/26/2014.

Filed Date: 6/26/14.

Accession Number: 20140626-5134.

Comments Due: 5 p.m. ET 7/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2014.
Nathaniel J. Davis, Sr.,
Deputy Secretary.

[FR Doc. 2014-15845 Filed 7-7-14; 8:45 am]

BILLING CODE 6717-01-P